DEPARTMENT OF HOMELAND SECURITY

Coast Guard

[USCG-2013-0029]

Great Lakes Pilotage Advisory Committee

AGENCY: Coast Guard, DHS.

ACTION: Committee Management; Notice of Federal Advisory Committee Meeting.

SUMMARY: The Great Lakes Pilotage Advisory Committee (GLPAC) will meet on February 11, 2013, in Cleveland, Ohio. The meeting will be open to the public.

DATES: GLPAC will meet on Monday, February 11, 2013, from 12:30 p.m. to 3:30 p.m. Please note the meeting may close early if the committee completes its business. Written material and requests to make oral presentations should reach us on or before February 8, 2012.

ADDRESSES: The meeting will be held at Coast Guard District 9 Headquarters, 1240 East 9th Street, Cleveland, Ohio 44199, in conference room 1629. All visitors to Coast Guard District 9 Headquarters will have to pre-register to be admitted to the building. Please provide your name, telephone number and organization by close of business on February 8, 2013, to the contact person listed in FOR FURTHER INFORMATION CONTACT below. Additionally, all visitors to Coast Guard District 9 Headquarters must produce valid photo identification for access to the facility.

For information on facilities or services for individuals with disabilities or to request special assistance at the meeting, contact the person listed in FOR FURTHER INFORMATION CONTACT below as soon as possible.

To facilitate public participation, we are inviting public comment on the issues to be considered by the committee as listed in the “Agenda” section below. Comments must be submitted in writing no later than February 8, 2013, and must be identified by [USCG-2013-0029] and may be submitted by one of the following methods:

• Federal eRulemaking Portal: http://www.regulations.gov. Follow the instructions for submitting comments.

• Fax: 202-493-2251.

• Mail: Docket Management Facility (M-30), U.S. Department of Transportation, West Building Ground Floor, Room W12-140, 1200 New Jersey Avenue SE., Washington DC 20590-0001.

• Hand Delivery: Same as mail address above between 9 a.m. and 5 p.m., Monday through Friday, except Federal holidays. The telephone number is 202-366-9329. To avoid duplication, please use only one of these four methods.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov, and use “USCG-2013-0029” as your search term.

A public comment period of up to one hour will be held during the meeting on February 11, 2013, after the committee completes its work on the agenda given under SUPPLEMENTARY INFORMATION. Speakers are requested to limit their comments to 5 minutes. Please note that the public comment period may end before the hour allotted, following the last call for comments. Contact the individual listed below to register as a speaker.

FOR FURTHER INFORMATION CONTACT: Mr. David Dean, GLPAC Alternate Designated Federal Officer (ADFO), Commandant (CG-5522), U.S. Coast Guard Headquarters, 2100 Second Street SW., Stop 7580, Washington, DC 20593-7580; telephone 202-372-1533, fax 202-372-1914, or email at David.J.Dean@uscg.mil. If you have questions on viewing or submitting material to the docket, call Renee V. Wright, Program Manager, Docket Operations, telephone 202-366-9826.

SUPPLEMENTARY INFORMATION: Notice of this meeting is given under the Federal Advisory Committee Act, 5 U.S.C. App. (Pub. L. 92-463). GLPAC was established under the authority of 46 U.S.C. 9307, and makes recommendations to the Secretary of Homeland Security and the Coast Guard on matters relating to Great Lakes pilotage, including review of proposed Great Lakes pilotage regulations and policies.

GLPAC expects to meet at least once more this year at the conclusion of the comprehensive pilotage study mentioned in the agenda below. Further information about GLPAC is available by searching on “Great Lakes Pilotage Advisory Committee” at http://www.faca.gov. Agenda

The GLPAC will meet to review, discuss and formulate recommendations on the following issues:

2013/2014 Appendix A rulemakings which establishes the rates that pilots can charge industry for their services.

Memorandum of Arrangements between the U.S. and Canada concerning definitions and procedures for pilotage in the shared waters of the Great Lakes.

Establishing a permanent split of St. Lawrence River pilotage assignments through a change point at Iroquois Lock.

Status of vacant ratemaking position in Great Lakes Pilotage Division.

Status of Great Lakes Pilotage Division office location.

Presentation and discussion of the latest draft of the comprehensive pilotage study; a copy of the draft study is posted to the electronic docket. Please see instructions below for access.

This will be followed by a public comment period of up to one hour. Speakers are requested to limit their comments to 5 minutes.

More detailed information and materials relating to these issues appear in the docket, including a copy of the draft pilotage study, at http://www.regulations.gov. Use “USCG-2013-0029” as your search term.

Dated: January 18, 2013.
D.A. Goward,
Director Marine Transportation Systems, U.S. Coast Guard.

[FR Doc. 2013-01563 Filed 1-24-13; 8:45 am]

BILLING CODE 9110-04-P